DEPARTMENT OF HOMELAND SECURITY

Bureau of Customs and Border Protection

[Docket No. USCBP-2006-0037]

International Registered Traveler Pilot Program Name Changed to Global Entry; Program Starting Date Accelerated; Changes to Enrollment Center Information

AGENCY: Customs and Border Protection; Department of Homeland Security.

ACTION: General notice.

SUMMARY: On April 11, 2008, Customs and Border Protection (CBP) published in the Federal Register a notice announcing a pilot international registered traveler program, then referred to as International Registered Traveler (IRT), to be operated by CBP to allow for the expedited clearance of pre-approved low-risk air travelers into the United States. This notice announces that the program is now known as Global Entry and that the starting date of the pilot program has been moved up to June 6, 2008. This notice also updates the contact information for the Enrollment Center at Washington Dulles International Airport, Sterling, Virginia.

DATES: The pilot will commence June 6, 2008. Applications currently are being accepted. Comments will be accepted throughout the duration of the pilot.

FOR FURTHER INFORMATION CONTACT: Fiorella Michelucci, Office of Field Operations, (202) 344-2564 (not a toll-free number).

SUPPLEMENTARY INFORMATION:

Background

On April 11, 2008, Customs and Border Protection (CBP) published in the Federal Register (73 FR 19861) a notice announcing a pilot international registered traveler program, then referred to as International Registered Traveler (IRT), to be operated by CBP to allow for the expedited clearance of pre-approved low-risk air travelers into the United States. It was further announced that the pilot will begin on June 10, 2008, and will initially be conducted at the John F. Kennedy International Airport, Jamaica, New York; the George Bush Intercontinental Airport, Houston, Texas; and the Washington Dulles International Airport, Sterling, Virginia, and may expand to other locations as announced.

All aspects of the program as described in the April 11 notice are still in effect except for the changes set forth in this notice. Applications started being accepted for the pilot on May 12, 2008, and are still being accepted. Comments will be accepted throughout the duration of the pilot to the addresses provided in the April 11, 2008 notice.

Revisions to Previous Notice

This notice is to inform the public of three changes relating to the April 11, 2008 announcement: The name of the program has been changed to “Global Entry”, and the operation of the pilot will commence on June 6, 2008, four days earlier than the date announced in the April 11, 2008 notice. This notice also updates the contact information for the Enrollment Center at Washington Dulles International Airport, Sterling, Virginia. The new telephone number for that location is 703-661-2854; the new fax number is 703-661-0013.

Dated: May 20, 2008.
W. Ralph Basham,
Commissioner, U.S. Customs and Border Protection.

[FR Doc. E8-11629 Filed 5-23-08; 8:45 am]

BILLING CODE 9111-14-P